DEPARTMENT OF THE INTERIOR

National Park Service

Notice of Intent to Repatriate Cultural Items in the Possession of the Bernice Pauahi Bishop Museum, Honolulu, HI; Correction

AGENCY: National Park Service, Interior.

ACTION: Notice; correction.

Notice is here given in accordance with the Native American Graves Protection and Repatriation Act (NAGPRA), 25 U.S.C. 3003, of the intent to repatriate cultural items in the possession of the Bishop Museum, Honolulu, HI, that meet the definition of “unassociated funerary objects” under 25 U.S.C. 3001.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the culturally affiliated Native Hawaiian organizations identified during the claimant process and provides new museum contact information for a Notice of Intent to Repatriate Cultural Items published in the Federal Register of October 10, 2002 (FR Doc 02-25874, page 63152) for unassociated funerary objects removed from Lana`i, HI.

The Federal Register notice of October 10, 2002 is corrected by substituting paragraph numbers 5 and 6 with the following paragraphs:

Officials of the Bishop Museum have determined that, pursuant to 25 U.S.C. 3001 (3)(B), the 97 cultural items are reasonably believed to have been placed with or near individual human remains at the time of death or later as part of the death rite or ceremony and are believed, by a preponderance of the evidence, to have been removed from a specific burial site of a Native Hawaiian individual. Officials of the Bishop Museum also have determined that, pursuant to 25 U.S.C. 3001 (2), there is a relationship of shared group identity that can be reasonably traced between the unassociated funerary objects and the Office of Hawaiian Affairs and Hui Kako`o. It has also been determined that Hui Kako`o is the most culturally affiliated Native Hawaiian organization for these unassociated funerary objects.

Representatives of any other Native Hawaiian organization that believes itself to be culturally affiliated with the unassociated funerary objects should contact Betty Lou Kam, Vice President of Cultural Resources, Bishop Museum, 1525 Bernice Street, Honolulu, HI 96718-2704, telephone (808) 848-4144, before September 29, 2008. Repatriation of the unassociated funerary objects to Hui Kako`o may proceed after that date if no additional claimants come forward.

The Bishop Museum is responsible for notifying Hui Kako`o, Hui Malama I Na Kupuna O Hawai`i Nei, Maui/Lana`i Island Burial Council, and the Office of Hawaiian Affairs that this notice has been published.

Dated: August 12, 2008.
Sherry Hutt,
Manager, National NAGPRA Program.

[FR Doc. E8-20101 Filed 8-28-08; 8:45 am]

BILLING CODE 4312-50-S